DEPARTMENT OF HEALTH AND HUMAN SERVICES

Centers for Disease Control and Prevention

Board of Scientific Counselors, Office of Public Health and Preparedness and Response, (BSC, OPHPR); Correction

Notice is hereby given of a change in the meeting of the Board of Scientific Counselors, Office of Public Health and Preparedness and Response, (BSC, OPHPR); February 13, 2018, 2:00 p.m. to 5:00 p.m., EST which was published in the Federal Register on January 16, 2018, Volume 83, Number 10, pages 2158-2159.

The dial in number and Participant code should read as follows: Dial in number: 800-857-5746; Participant code: 4391556.

FOR FURTHER INFORMATION CONTACT: Dometa Ouisley, Office of Science and Public Health Practice, Centers for Disease Control and Prevention, 1600 Clifton Road NE, Mailstop D-44, Atlanta, Georgia 30329, Telephone: (404) 639-7450; Facsimile: (404) 471- 8772; Email: OPHPR.BSC.Questions@cdc.gov.

The Director, Management Analysis and Services Office, has been delegated the authority to sign Federal Register notices pertaining to announcements of meetings and other committee management activities, for both the Centers for Disease Control and Prevention and the Agency for Toxic Substances and Disease Registry.

Elaine L. Baker,
Director, Management Analysis and Services Office, Centers for Disease Control and Prevention.

[FR Doc. 2018-04132 Filed 2-28-18; 8:45 am]

BILLING CODE 4163-18-P